DEPARTMENT OF TRANSPORTATION

Federal Highway Administration

[FHWA Docket No. FHWA-2016-0033]

Motorcyclist Advisory Council to the Federal Highway Administration

AGENCY: Federal Highway Administration (FHWA), DOT.

ACTION: Notice of Establishment of the Motorcyclist Advisory Council to the Federal Highway Administration; Request for Nominations.

SUMMARY: The FHWA announces the establishment of the Motorcyclist Advisory Council (MAC) for a 2-year period. The MAC will coordinate with and advise the FHWA Administrator on infrastructure issues of concern to motorcyclists, including: (1) Barrier design; (2) road design, construction, and maintenance practices; and (3) the architecture and implementation of intelligent transportation system technologies. The FHWA seeks member nominations for the MAC.

DATES: The deadline for nominations for MAC membership is February 23, 2017.

ADDRESSES: All nomination materials should be emailed to MAC-FHWA@dot.gov or mailed attention to Mr. Michael Griffith, Federal Highway Administration, Office of Safety, Room E71-312, 1200 New Jersey Ave. SE., Washington, DC 20590. Any person needing accessibility accommodations should contact Michael Griffith at (202) 366-9469.

FOR FURTHER INFORMATION CONTACT: Mr. Michael Griffith, Office of Safety, (202) 366-9469 or MAC-FHWA@dot.gov; 1200 New Jersey Ave. SE., Washington, DC 20590; or Ms. Seetha Srinivasan, Office of the Chief Counsel—Legislation, Regulation, and General Law Division, 1200 New Jersey Avenue SE., Washington, DC 20590, (202) 366-4099 or Seetha.Srinivasan@dot.gov.

SUPPLEMENTARY INFORMATION: Section 1426 of the Fixing America's Surface Transportation Act (Pub. L. 114-94) requires the establishment of a Motorcyclist Advisory Council (MAC). The Secretary, acting through the Administrator of the FHWA, is required to appoint a MAC to coordinate with and advise the Administrator on infrastructure issues of concern to motorcyclists, including:

(1) Barrier design;

(2) Road design, construction, and maintenance practices; and

(3) The architecture and implementation of intelligent transportation system technologies.

Pursuant to Section 9(a)(2) of the Federal Advisory Committee Act (FACA), and in accordance with 41 CFR 102-3.65, and following consultation with the Committee Management Secretariat, General Services Administration, notice is hereby given that the MAC will be established for up to a 2-year period.

The MAC shall comprise not more than 10 members appointed by the Secretary of Transportation for terms of up to 2 years. Members serve at the pleasure of the Secretary. The Secretary may extend appointments and may appoint replacements for members who have resigned outside of a stated term, as necessary. Members may continue to serve until their replacements have been appointed.

The MAC seeks to have a fairly balanced membership with expertise in highway engineering, safety analysis, and motorcycling. Specifically, the following are the categories of members that shall be included in the MAC:

(1) Experts from State/local government in highway engineering issues, including:

(A) Barrier design;

(B) Road design, construction, maintenance; and/or

(C) Intelligent Transportation Systems;

(2) State/local traffic and safety engineers, design engineers, or other transportation department officials who are motorcyclists;

(3) A representative from a national motorcyclist association;

(4) A roadway safety data expert on crash testing/analysis; and

(5) A member of a national safety organization that represents the traffic safety systems industry.

This document gives notice of this process to potential participants and affords them the opportunity to request representation on the MAC. The procedure for requesting such representation is set out below. The FHWA is aware that there are many more potential organizations and participants than there are membership slots on the MAC. Organizations and participants should be prepared to support their participation on the MAC.

It is important to recognize that interested parties who are not selected to membership on the MAC can make valuable contributions to the work of the MAC in any of several ways. Interested persons shall be permitted to attend, appear before, or file statements with any advisory committee, subject to such reasonable rules or regulations as the Administrator may prescribe.

Any member of the public is welcome to attend the MAC meetings, and, as provided in FACA, speak to the MAC. Time will be set aside during each meeting for this purpose, consistent with the MAC's need for sufficient time to complete its deliberations.

The MAC meetings will be held approximately twice per Federal fiscal year, once in-person and once by web conference. Notice of each meeting shall be published in the Federal Register at least 15 calendar days prior to the date of the meeting. The meeting agenda and all relevant meeting information will be posted in advance of each meeting on the Web site (http://safety.fhwa.dot.gov/motorcycles).

Every effort will be made to select MAC members who are objective and support the functions to be performed by the MAC. A balance is needed and weight is given to a variety of factors including, but not limited to, geographical distribution, gender, minority status, organization, and expertise. Some MAC members may be appointed as Special Government Employees and will be subject to certain ethical restrictions, and such members will be required to submit certain information in connection with the appointment process. With the exception of travel and per diem for official travel, members will serve without compensation.

A potential member may self-nominate or be nominated by an interested organization. Each nomination for membership should submit a letter of application that includes the following:

(1) The name, title, and relevant contact information (including phone and email address) of the nominee;

(2) a brief statement detailing interest for involvement in the MAC;

(3) A brief professional summary or résumé, including years of experience; relevant professional experience; geographic representation; and examples of previous leadership role in related committees, organizations, or advisory panels;

(4) A detailed description of the nominee's experience and expertise of the subject matter categories described above;

(5) Evidence that the nominee is authorized to represent parties related to the interest the person proposes to represent;

(6) An affirmative statement that the nominee meets all MAC eligibility requirements; and

(7) Optional support materials to emphasize interest and experience. This may include letters of recommendations, up to 3 references, publications and/or research.

Please do not send company, trade association, or organization brochures or any similar information. Should more information be needed, DOT staff will contact the nominee, obtain information from the nominee's past affiliations, or obtain information from publicly available sources, such as the Internet.

Nominations may be emailed to MAC-FHWA@dot.gov or mailed to the attention of Michael Griffith, Federal Highway Administration, Office of Safety, Room E71-312, 1200 New Jersey Ave. SE., Washington, DC 20590. Nominations must be received by February 23, 2017. Nominees selected for appointment to the MAC will be notified by return email and by a letter of appointment.

A selection team comprising representatives from DOT offices will review the nomination packages. The Federal Highway Administrator will submit a list of recommended candidates to the Secretary of Transportation for review and selection of MAC members. The selection team will make recommendations regarding membership to the Secretary of Transportation through the Federal Highway Administrator based on criteria including: (1) Professional or academic expertise, experience, and knowledge relevant to the MAC activities described above; (2) the member categories described above; and (3) availability and willingness to serve.

Nominations are open to all individuals without regard to race, color, religion, sex, national origin, age, mental or physical handicap, marital status, or sexual orientation. To ensure that recommendations to the Secretary take into account the needs of the diverse groups served by DOT, membership shall include, to the extent practicable, individuals with demonstrated ability to represent minorities, women, and persons with disabilities.

Issued on: December 21, 2016.
Gregory G. Nadeau,
Administrator, Federal Highway Administration.

[FR Doc. 2017-00125 Filed 1-6-17; 8:45 am]

BILLING CODE 4910-22-P